DEPARTMENT OF AGRICULTURE

Submission for OMB Review; Comment Request

October 26, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by November 30, 2020. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Child Nutrition Labeling Program.

OMB Control Number: 0581-0261.

Summary of Collection: The Child Nutrition Labeling Program is a voluntary technical assistance program administered by the Agricultural Marketing Service (AMS). The program is designed to aid schools and institutions participating in the National School Lunch Program, the School Breakfast Program, the Child and Adult Care Food Program, and the Summer Food Service Program by, determining the contribution a commercial product makes towards the meal pattern requirements. Legislative authority for the programs is covered under The National School Lunch Act (NSLA); Public Law 90-302 enacted in 1968 amended the NSLA establishing the Special Food Service Program for Children. In 1975 Congress separated the Child Care Food Program and Summer Food Service components of the SFAPFC and provided each with legislative authorization.

The Child Nutrition Labeling Program is implemented in conjunction with existing label approval programs administered by the Food Safety and Inspection Service (FSIS), and the U.S. Department of Commerce (DoC). To participate in the CN Labeling Program, industry submits labels to AMS of products that are in conformance with the FSIS label approval program (for meat and poultry), and the DoC label approval program (for seafood products).

Need and Use of the Information: AMS uses the information collected to aid school food authorities and other institutions participating in child nutrition programs in determining the contribution a commercial product makes towards the established meal pattern requirements. AMS uses all of the collected information to give the submitted label an approval status that indicates if the label can be used as part of the CN Labeling Program. Without the information CN Labeling Program would have no basis on which to determine how or if a product meets the meal pattern requirements.

Description of Respondents: Business or other for-profit.

Number of Respondents: 262.

Frequency of Responses: Reporting: Other (as needed).

Total Burden Hours: 262.

Levi S. Harrell,
Departmental Information Collection Clearance Officer.

[FR Doc. 2020-23941 Filed 10-29-20; 8:45 am]

BILLING CODE 3410-02-P